INTERNATIONAL TRADE COMMISSION

[Investigation No. 337-TA-636]

In the Matter of Certain Laser Imageable Lithographic Printing Plates; Issuance of a Limited Exclusion Order and Termination of the Investigation

AGENCY: U.S. International Trade Commission.

ACTION: Notice.

SUMMARY: Notice is hereby given that the U.S. International Trade Commission has issued a limited exclusion order directed to infringing laser imageable lithographic printing plates.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on March 13, 2008, based on a complaint filed by Presstek, Inc. of Hudson, New Hampshire (“Presstek”). The complaint alleged violations of section 337 of the Tariff Act of 1930, as amended, 19 U.S.C. 1337, in the importation into the United States, the sale for importation, and the sale within the United States after importation of certain laser imageable lithographic printing plates that infringe certain claims of United States Patent Nos. 5,339,737 (“the '737 patent”) and 5,487,338 (“the '338 patent”) and United States Trademark Registration No. 1,711,005 (“the '005 trademark”). All assertions relating to the '005 trademark were subsequently terminated from the investigation. Certain respondents were also terminated during the course of the investigation. The following respondents remain in the investigation: VIM Technologies, Ltd. of Kibbutz Hanita, Israel; Hanita Coatings RCA, Ltd. of Kibbutz Hanita, Israel; Guaranteed Service & Supplies, Inc. of West Bend, Wisconsin; AteCe Canada of Toronto, Ontario, Canada; Recognition Systems, Inc. of Port Washington, New York; and Spicers Paper, Inc. of Santa Fe Springs, California (collectively, “Respondents”).

On July 24, 2009, the ALJ issued a final initial determination (“ID”) finding the domestic industry requirement satisfied, finding a violation of section 337 and containing a recommended determination on remedy and bonding. The ALJ recommended that, in the event the Commission finds a violation of section 337, the Commission should issue a limited exclusion order directed to all of Respondents' accused products found to infringe the '737 and '338 patents. ID at 101-104. The ALJ further recommended that if the Commission imposes a remedy following a finding of violation, Respondents should be required to post a bond of 100 percent of the entered value of accused products imported during the Presidential review period. Id.

Respondents filed a combined petition for review of the ID, and Presstek and the Commission Investigative Attorney (“IA”) filed oppositions thereto. On September 24, 2009, the Commission determined to review certain aspects of the ID relating to claim construction and to modify the ID by supplementing the claim construction analysis. 74 FR 49890 (Sept. 29, 2009). The Commission also requested written submissions on the issues of remedy, the public interest and bonding, and further requested submissions of proposed remedial orders. Id.

On October 5, 2009, Respondents filed a collective brief on the issues for which the Commission requested written submissions. Presstek and the IA filed their briefs on those same issues on October 6, 2009, and on October 13, 2009, Presstek filed a response to Respondents' brief.

Having reviewed the record in this investigation, including the ID and the parties' written submissions, the Commission has determined that the appropriate form of relief is a limited exclusion order prohibiting the unlicensed entry of laser imageable lithographic printing plates that infringe one or more of claims 1, 10 and 27 of the '737 patent or claims 20, 21 and 23 of the '338 patent and that are manufactured abroad by or on behalf of, or imported by or on behalf of, Respondents.

The Commission further determines that the public interest factors enumerated in section 337(d) (19 U.S.C. 1337(d)) do not preclude issuance of the limited exclusion order. Finally, the Commission determines that no bond is required to permit temporary importation during the period of Presidential review (19 U.S.C. 1337(j)) of the laser imageable lithographic printing plates that are subject to the order. The Commission's order and opinion were delivered to the President and to the United States Trade Representative on the day of their issuance.

The authority for the Commission's determination is contained in section 337 of the Tariff Act of 1930, as amended, 19 U.S.C. 1337, and in sections 210.50 of the Commission's Rules of Practice and Procedure, 19 CFR 210.50.

By order of the Commission.
Issued: November 30, 2009.
William R. Bishop,
Acting Secretary to the Commission.

[FR Doc. E9-29287 Filed 12-8-09; 8:45 am]

BILLING CODE P